DEPARTMENT OF LABOR

Occupational Safety and Health Administration

[Docket No. OSHA-2019-0007]

Online Delivery of OSHA's Outreach Training Program 10- and 30-Hour Courses

AGENCY: Occupational Safety and Health Administration (OSHA), Labor.

ACTION: Request for information.

SUMMARY: OSHA requests information, comments, and documents that would assist the agency in determining whether to adopt a new online delivery model for OSHA's Outreach Training Program. The OSHA Outreach Training Program is a hazard awareness training program that educates participants on the recognition, abatement, and prevention of job-related hazards in the construction, general, and maritime industries, and at disaster sites. The potential new model would be limited to OSHA's 10- and 30-hour Outreach courses for the construction, general, and maritime industries. The new model would not include the disaster site worker training program. OSHA plans to use the information collected from this request to determine whether the new model would address issues associated with the existing model. If the new model were implemented, the agency would develop policies and procedures for the online Outreach Training Program courses to ensure that online providers meet OSHA's expectations for program quality and consistency.

DATES: Submit information, comments, and documents on or before December 9, 2019. All submissions must bear a postmark or provide other evidence of the submission date.

ADDRESSES: Submit comments and additional materials, identified by Docket No. OSHA-2019-0007 by any of the following methods:

Electronically: Submit comments and attachments electronically to the Federal eRulemaking Portal at https://www.regulations.gov. Follow the instructions online for making electronic submissions.

Facsimile: If your comments, including attachments, are not longer than 10 pages, you may fax them to the OSHA Docket Office at (202) 963-1648.

Regular mail, hand delivery, express mail, or messenger (courier) service: Submit comments and any additional material (for example, studies or journal articles) to the OSHA Docket Office, Docket No. OSHA-2019-0007, Occupational Safety and Health Administration, U.S. Department of Labor, Room N-3653, 200 Constitution Ave. NW, Washington, DC 20210; telephone: (202) 693-2350. (OSHA's TTY number is (877) 889-5627). All additional material must clearly identify your electronic submission by name, date, and docket number so that OSHA can attach them to your comments. Due to security procedures, there may be delays in receiving materials that are sent by regular mail. Deliveries (hand, express mail, messenger, and courier service) are accepted during the Docket Office's normal business hours, 10:00 a.m.-3:00 p.m., ET.

Instructions: All submissions must include the agency's name and the docket number for this Request for Information (RFI) (OSHA-2019-0007). When submitting comments or recommendations on any of the issues raised in this RFI, commenters should explain their rationale and, if possible, provide data and information to support their comments or recommendations. Comments and other material, including any personal information, will be placed in the public docket without revision, and will be publicly available online at https://www.regulations.gov. Therefore, OSHA cautions commenters about submitting statements they do not want to be made available to the public, or submitting comments that contain personal information (either about themselves or others) such as Social Security numbers, birth dates, and medical data.

Docket: To read or download submissions or other material in the docket, go to https://www.regulations.gov or the OSHA Docket Office at the above address. The https://www.regulations.gov index lists all documents in the docket. All submissions, including copyrighted materials, are available for inspection at the OSHA Docket Office. Contact the OSHA Docket Office for assistance in locating docket submissions.

FOR FURTHER INFORMATION CONTACT: Information regarding this notice is available from the following sources:

Press inquiries: Frank Meilinger, Director, OSHA Office of Communications, U.S. Department of Labor by phone: (202) 693-1999; email: meilinger.francis2@dol.gov.

General and technical information: David Serra, Outreach Training Program Coordinator, Training Programs, Office of Training Programs and Administration, Directorate of Training and Education, Occupational Safety and Health Administration, U.S. Department of Labor, by email: serra.david.m1@dol.gov.

Copies of this Federal Register notice: Electronic copies are available at https://www.regulations.gov. This Federal Register notice, news releases, and other relevant information are also available on OSHA's web page at https://www.osha.gov.

References and exhibits: Documents referenced by OSHA in this request for information, other than OSHA standards and Federal Register notices, are available in Docket No. OSHA-2019-0007. Additional references are OSHA Outreach Training Program Requirements [April 1, 2019], OSHA Outreach Training Program Construction Industry Procedures [April 1, 2019], OSHA Outreach Training Program General Industry Procedures [April 1, 2019], OSHA Outreach Training Program Maritime Industry Procedures [April 1, 2019]. The docket is available at https://www.regulations.gov, the Federal eRulemaking Portal. For additional information on submitting items to, or accessing items in, the docket, please refer to the ADDRESSES section of this RFI. Exhibits are available at https://www.regulations.gov. All materials in the dockets are available for inspection and copying at the OSHA Docket Office.

SUPPLEMENTARY INFORMATION:

Table of Contents

I. Introduction

II. Background

A. Overview of OSHA's Outreach Training Program

B. Online Outreach Training Program Consortium Model

III. Request for Information, Data, and Comments

A. OSHA's Current Model for In-Classroom and Online Delivery of OSHA Outreach Training

B. Modifying the Current Online Outreach Training Program Model

C. Scope of Online Offerings

D. Delineating Consortium Collaborator Distinctions Under the Consortium Model

E. Responsibilities of the OTI Education Center Under the Consortium Model

F. Responsibilities of the Online Provider Under the Consortium Model

G. Responsibilities of OSHA Under the Consortium Model

H. Responsibilities of the Optional Stakeholder Under the Consortium Model

I. Termination of Consortium Agreements

J. Expiration Dates of Consortiums

K. Whether OSHA Should Adopt Minimum Technical Specifications for Online Delivery of Training Content

• Online Provider System Requirements and Capabilities

• System Controls

• User Authentication

L. Whether OSHA Should Adopt Requirements for Validating Online Curriculum and Training Content

• Maintaining Curriculum Content

• Timelines and Processes To Ensure Content/Curriculum Is Updated as OSHA Implements Policy Changes

• Student Assessment Strategies

• Ensuring Appropriate Levels of Interactivity

• Ensuring Student Engagement While Meeting Required Training Timeframes

• Ensuring Adult Learning Principles Direct the Design and Development of Content

M. Ensuring Program Management and Strengthening Program Oversight

• Setting of Course Tuition and Card Processing Fees

• Potential Prohibition on Resellers, Pass-Through Agreements, Multi-Branded Offerings

• Program Administrative Requirements

N. Additional Information

IV. Authority and Signature

I. Introduction

The OSHA Outreach Training Program is a hazard awareness training program that promotes workplace safety and health. The program educates workers and employers on how to recognize, abate, and prevent job-related hazards in the construction, general, and maritime industries, and at disaster sites. Training is conducted in both classroom and online formats. The federal government does not mandate participation in the OSHA Outreach Training Program, and the program is not intended to meet employer responsibilities for safety and health training of their employees. The program is voluntary and does not meet the training requirements contained in any OSHA standard.¹ Nevertheless, some states and local jurisdictions have enacted legislation mandating OSHA Outreach Training Program training, and some employers and unions require workers to complete this training to work in certain job sites or fulfill their own safety training goals.

¹ For information on OSHA's training-related requirements, see OSHA Publication #2254, Training Requirements in OSHA Standards (https://www.osha.gov/Publications/osha2254.pdf).

OSHA has concerns related to a number of issues associated with the existing online program, including inconsistent training quality, insufficient monitoring and oversight available to the agency, and public confusion regarding the OSHA-authorized Outreach Training Program. OSHA will consider any comments received in response to this Request for Information (RFI) to determine whether a new online training model called the OSHA Online Outreach Training Program Consortium should be adopted to address these issues.

II. Background

A. Overview of OSHA's Outreach Training Program

OSHA's Outreach Training Program is taught by authorized safety and health professionals who complete an OSHA Outreach Training Program trainer course that enables them to teach 10- and 30-hour Outreach Training Program classes for workers in construction, general industry, maritime, and disaster sites. The 10-hour Outreach class is designed for entry-level workers, while the 30-hour Outreach class is more appropriate for individuals with experience in issues related to workplace safety or whose job responsibilities include ensuring workplace safety.

After participants have completed training, trainers request and receive Outreach Training Program student course completion cards through their Authorizing Training Organization (ATO). An ATO is the organization that sponsored the trainer's most recent trainer course or trainer update course, which is either OSHA's Directorate of Training and Education (DTE) or an OSHA Training Institute (OTI) Education Center.

The OTI Education Centers are a national network of nonprofit organizations authorized by OSHA to deliver occupational safety and health training to private and public sector workers and employers, other federal agencies, and occupational safety and health professionals. The primary focus of each OTI Education Center is to provide OSHA training courses throughout OSHA's ten regions in support of the OSH Act and OSHA's training mission. Additional information on the OTI Education Centers is available on OSHA's web page at https://www.osha.gov/otiec.

In 2001, OSHA began an Online Outreach Training Program, which provides online, rather than classroom, delivery of training courses for its 10-hour and 30-hour construction and general industry programs. Prior to 2001, all authorized OSHA trainers were required to conduct in-person training. OSHA also implemented an application process for becoming an authorized online training provider.

OSHA recognizes the benefits of having access to an online platform for training. However, the agency has a number of concerns with the existing model that it would like to address, including inconsistent training quality, insufficient program monitoring and oversight available to the agency, and public confusion regarding OSHA-authorized Outreach Training Programs. OSHA has received numerous complaints regarding online training, including:

Individuals completing online courses on behalf of another registered student;

Individuals accessing and completing online courses from outside the geographic jurisdiction of the agency;

Publicly posted video clips, media, or other information instructing individuals on methods to complete an Online Outreach Training Program 10- or 30-hour class in less than the minimum required time;

Late submissions of card processing requests;

Failure of online providers to issue student course completion cards after receipt from OSHA within required time limits;

Failure of online providers to issue course completion cards;

Significant customer service issues, including poor technical support, inadequate responses from customer service staff, and difficulty reaching the authorized Outreach trainer;

Issuance of course completion cards and course completion certificates for classes not affiliated with the Outreach Training Program, but appearing to be offered by OSHA;

Misleading advertising including the use of department and agency logos, and prohibited terms (e.g., certification, accredited); and

Difficulty distinguishing by the general public between OSHA-authorized online Outreach providers and resellers, pass-through entities, and other online safety and health offerings.

Because of these issues, on October 31, 2009, OSHA instituted a moratorium on receiving or approving any additional applications for online training providers. As a result, only nine previously authorized online providers currently provide training.²

² In 2011, OSHA developed a plan to replace the existing online providers through a new competitive model (see 76 FR 17451 (Mar. 29, 2011)). Under the competitive model, OSHA would select a limited number of providers through non-financial cooperative agreements. While OSHA awarded cooperative agreements on January 12, 2012, the agreements never went into effect because of litigation in the United States Court of Federal Claims. In its most recent decision, the court permanently enjoined OSHA from making awards under the competitive model unless it corrected certain defects in its solicitation under the Competition in Contracting Act. OSHA has taken no further action to make awards under the competitive model, and if OSHA adopts a different model, it will no longer attempt to use the competitive model to make awards.

B. Online Outreach Training Program Consortium Model

OSHA's Directorate of Training and Education (DTE) is considering an alternative online model that provides safeguards against some of the issues facing the existing model. This approach is referred to as the Online Outreach Training Program Consortium Model (Model). Under this Model, a consortium would be a voluntary agreement between interested organizations, as opposed to a contract or non-financial cooperative agreement.

Under this approach, OSHA would not limit the number of consortiums that could provide online training. Instead, a consortium would be authorized to provide online training if it met OSHA's requirements to become an authorized consortium.

Authorized consortiums would consist of either three or four collaborators, who would enter into a consortium agreement. Each collaborator would have designated responsibilities detailed in the agreement. The consortium agreement would outline technical, curriculum, and program responsibilities.

Consortiums with three collaborators would include OSHA, an OTI Education Center, and an online provider. Consortiums with four collaborators would include OSHA, an OTI Education Center, an online provider, and a stakeholder.

Under the model, the OTI Education Center would have oversight and student course completion card processing responsibilities for the consortium. The online provider would typically be the course content developer, provider of the training, and advisor on the technical aspects of offering online training. The stakeholder would be an organization (e.g., a labor union or employer) that is interested in developing and offering online Outreach training to only its members or employees. The stakeholder would most likely enter into the agreement as a fourth member, rather than an online provider, because the stakeholder would likely not have the information technology experience and resources to act as an online provider. Section III contains a description of each consortium member's responsibilities.

Whether the consortium is comprised of three or four collaborators, OSHA would require that all actions taken by an authorized consortium be consistent with OSHA requirements. OSHA also would have final programmatic authority over the consortium and its members. OSHA would review the consortium agreement and ensure the agreement is in compliance with Outreach Training Program requirements. These requirements would include, for example, the existing OSHA Outreach Training Program Requirements and Outreach Training Program Industry Procedures, as well as a new OSHA Directive for Online Outreach Training Program Consortiums that OSHA would develop if it adopted the consortium model. In addition, OSHA would have final authority over termination and expiration of consortium agreements.

III. Request for Information, Data, and Comments

OSHA would like data, information, and comments on the below questions. Commenters are asked to clearly delineate which question number related to their comment(s) or other submission(s) is intended to address.

A. OSHA's Current Model for In-Classroom and Online Delivery of OSHA Outreach Training

A.1. What are the benefits to the current model?

A.2. Are there any issues associated with the current model other than those discussed by OSHA in this Request for Information? If so, please list these additional issues. Provide details and examples where possible.

B. Modifying the Current Online Outreach Training Program Model

B.1. Are there any approaches that OSHA should consider adopting other than the consortium approach (for example, the competitive approach described in footnote 2 of this RFI)?

If you believe OSHA should adopt another approach, please describe the alternative approach and explain why you believe it should be adopted.

If you believe OSHA should leave the existing application process in place or, alternatively, that OSHA should adopt the consortium approach, please explain why.

B.2. What are the benefits of the consortium approach?

B.3. What are the weaknesses of the consortium approach?

B.4. Does online delivery of the Outreach Training Program effectively meet OSHA's mission to educate the public on workplace hazards? If so, please explain why. If not, explain why not, and also outline methods of educating the public on workplace hazards you believe would effectively meet OSHA's mission.

C. Scope of Online Offerings

OSHA is considering requiring consortiums to offer the 10-hour and 30-hour OSHA Outreach Training Program courses for each of the following three industries: Construction, general, and maritime industries (i.e., a total of three separate 10-hour courses and three separate 30-hour courses).

C.1. Do you believe a requirement that consortiums offer the 10-hour and 30-hour OSHA Outreach Training Program courses for each of these three industries (construction, general, and maritime) would pose a challenge to online providers? If so, please explain the nature of those challenges.

C.1.a. If you believe there are challenges, how can these challenges be resolved?

C.1.b. Can OSHA resolve these challenges? How? Please explain.

C.1.c. Can online providers resolve these challenges? How? Please explain.

OSHA is considering requiring consortiums to offer the 10- and 30-hour OSHA Outreach Training Program courses in languages other than English.

C.2. Do you believe the OSHA Outreach Training Program classes should be offered in languages other than English?

C.2.a. If so, what challenges do you foresee with developing OSHA Outreach Training Program classes in languages other than English?

C.2.b. Can the consortium collaborators resolve these challenges? How? Please explain.

D. Delineating Consortium Collaborator Distinctions Under the Consortium Model

To prevent conflicts of interest, the appearance of conflicts of interest, or self-dealing, OSHA is considering prohibiting consortium collaborators from serving in a `dual-role' within the same agreement. That is, OSHA would require that each partner in a consortium agreement be a separate, distinct entity, filling a specific collaborator role within that agreement, and an OTI Education Center could not serve as both the OTI Education Center collaborator and the online provider collaborator within the same consortium. Thus, if OTI Education Center A wishes to be an online provider collaborator, OTI Education Center A would have to enter into a consortium agreement with a different OTI Education Center (e.g., OTI Education Center B), which would serve as the sole OTI Education Center collaborator for that consortium. OTI Education Center A could also serve as the OTI Education Center collaborator in a separate consortium or consortiums.

D.1. Do you agree that consortium collaborators should be restricted to filling only one partner role within the same consortium agreement? Why or why not?

D.2. How broadly should OSHA define the term “separate, distinct entity?” Should a subsidiary component of a parent organization (for example, a subsidiary business, franchise, or division, or a distinct department within a college or university) be considered a “separate, distinct entity” from other subsidiary components of the same parent organization? Why or why not?

D.3. Are there any additional restrictions OSHA should consider or incorporate to prevent conflicts of interest, the appearance of conflicts of interest, or self-dealing?

E. Responsibilities of the OTI Education Center Under the Consortium Model

Under the Consortium Model, the OTI Education Center (a required consortium collaborator) would have oversight and processing responsibilities. Thus, the OTI Education Center would:

Oversee course curriculum and content. This might include curriculum development, and/or curriculum evaluation, and audits of online training delivery. The OTI Education Center could also act as a content advisor.

Conduct monitoring (through, for example, record audits and training observations) of the authorized Outreach trainer(s) that work(s) for the online provider.

Process Outreach Training Program Reports (OTPRs) and requests for 10- and 30-hour Outreach student course completion cards.

Oversee online providers to ensure compliance with OSHA requirements. These requirements include, for example, the existing OSHA Outreach Training Program Requirements and Outreach Training Program Industry Procedures, as well as a new OSHA Directive for Online Outreach Training Program Consortiums that OSHA would develop if it adopted the consortium model.

E.1 Do you agree that the OTI Education Center should have the responsibilities listed above under the consortium model?

If so, do you believe OSHA has adequately stated all responsibilities the OTI Education Center should have? Please explain.

Explain any other, or different, responsibilities you think the OTI Education Center should have.

F. Responsibilities of the Online Provider Under the Consortium Model

Under the Model, the online provider (a required consortium collaborator) would typically be the course content developer, provider, and advisor on the technical aspects of online training. Thus, the online provider would be responsible for:

Technical aspects, including system capabilities and requirements, system controls, data security and privacy, user authentication, and IT customer support.

Curriculum and training content, including development and delivery method, along with ensuring training content is current, relevant, and complies with OSHA Outreach Training Program requirements and procedures and industry-specific procedures.

Program management, including administering registration, maintaining records (e.g., student training record retention), reporting training to and requesting Outreach student course completion cards from the OTI Education Center, ensuring compliance with geographic jurisdiction and authorized Outreach trainer status requirements; collecting tuition and fees, and providing customer service. Program management would also include hosting registration and other student records on a Shareable Content Object Reference Model (SCORM) or Aviation Industry CBT Committee (AICC) compliant Learning Management System (LMS).³

³ Electronic learning (e-learning) software applications use industry-recognized technical standards to ensure interoperability between online learning content and learning management systems (LMS). Both SCORM and AICC are technical specifications widely accepted within the e-learning community. OSHA training content is SCORM-compliant.

Establishment and maintenance of a permanent website landing page dedicated solely to the online provider's authorized online Outreach course/class offerings. This requirement would not limit or restrict the provider's ability to use media other than the landing site (e.g., other websites) to market or advertise either OSHA-authorized Outreach courses or other occupational safety and health training available through the provider. Rather, the landing page would serve as a one-stop portal or point of entry for the public to access OSHA-authorized online Outreach training. OSHA might also require that the landing page contains copies of the OSHA approval documents authorizing the course, or other verification mechanisms (hyperlinks to https://www.osha.gov), to assure the public of the authenticity of the course.

F.1. Do you agree that the online provider under the Model should have the responsibilities listed above?

If so, do you believe OSHA has adequately stated all responsibilities the online provider should have? Please explain.

Explain any other, or different, responsibilities the online provider should have.

What common elements should be required on an authorized online provider-landing page?

What additional verification mechanisms that demonstrate the training is recognized as an OSHA Outreach Training Program should OSHA consider requiring online providers to make available to interested students?

G. Responsibilities of OSHA Under the Consortium Model

Under the Model, OSHA (a required consortium collaborator) would have final authority over the consortium and its partners in accordance with OSHA requirements. Requirements include, for example, the existing OSHA Outreach Training Program Requirements and Outreach Training Program Industry Procedures, as well as a new OSHA Directive for Online Outreach Training Program Consortiums that OSHA would develop if it adopted the consortium model. Thus, OSHA would:

Be responsible for approving and authorizing consortiums providing online training.

Conduct monitoring and investigations of all consortium members to ensure compliance with OSHA Outreach Training Program requirements and procedures.

Have authority to take corrective action and adverse action (up to and including dissolution of the consortium) for violations of OSHA requirements.

Design, develop, and host the sole, official dedicated page on the OSHA website, that is clearly identifiable and easily accessible to the public, to direct and link the public to a comprehensive list of all OSHA-authorized online Outreach training providers.

G.1. Do you agree that OSHA should have the responsibilities listed above under the consortium model?

If so, do you believe OSHA has adequately stated all the responsibilities OSHA should have? Please explain.

Explain any other, or different, responsibilities you think OSHA should have.

H. Responsibilities of the Optional Stakeholder Under the Consortium Model

Under the Model, the Stakeholder (an optional consortium collaborator) would be an organization (e.g., a labor union or employer) that is interested in developing and offering online Outreach training to only its members or employees. Thus, a stakeholder, if there is one, would:

Develop and/or review curriculum content specific to its industry/organization. The stakeholder might develop the industry-specific or targeted audience curriculum, collaborate with, or act as an advisor to, the online provider who would develop the content.

Ensure only the stakeholder's members or employees have access to the training.

Oversee all elements of student training.

H.1. Do you agree that the optional stakeholder should have the responsibilities listed above under the consortium model?

If so, do you believe OSHA has adequately stated all the responsibilities the optional stakeholder should have? Please explain.

Explain any other, or different, responsibilities you think the optional stakeholder should have.

I. Termination of Consortium Agreements

Under the consortium model, OSHA might permit any member of a consortium to request OSHA to terminate the agreement. For example, a consortium member might request OSHA to terminate the agreement because of non-compliance by one or more members. After an investigation, OSHA would determine whether to terminate the consortium agreement. OSHA would terminate the agreement in accordance with the procedures it adopts for dissolution of consortiums.

I.1. Do you agree with OSHA's intent to allow any member to request OSHA to terminate a consortium agreement?

If so, please explain.

If no, please explain why a termination provision is not recommended.

I.2. Under what conditions should OSHA terminate a consortium agreement? Should OSHA terminate an agreement whenever any consortium member requests termination regardless of the reason? Should some requests for termination be rejected depending on which member requests termination or the reason given for the request? Should some reasons be cause for termination if proffered by certain members but not by others? Please explain.

I.3. What concerns/issues may arise with terminating a consortium agreement prior to its expiration date? Please explain.

J. Expiration Dates of Consortiums

OSHA is considering requiring each consortium agreement to have an initial expiration date of one or two years from the date of the agreement. OSHA might permit consortium members to renew the agreement in up to five (5) year increments.

J.1. Should there be an initial expiration date for consortium agreements? Please explain.

J.2. If you believe there should be an initial expiration date for consortium agreements, what should the initial expiration date be? Please explain.

J.3. Should OSHA allow agreements to be renewed? Please explain.

J.4. If you believe OSHA should allow agreements to be renewed, what should be the renewal period? Please explain.

K. Whether OSHA Should Adopt Minimum Technical Specifications for Online Delivery of Training Content

OSHA is considering minimum technical requirements for online delivery of OSHA Outreach classes to ensure accessibility and consistently reliable delivery of training to end users. These minimum technical requirements might follow training and industry best practices for online delivery, while permitting providers the flexibility to leverage emerging technologies. OSHA would have final approval of consortium partners' recommendations for technology changes. OSHA is considering minimum technical requirements in several areas, including online provider system requirements and capabilities, system controls, and user authentication.

Online Provider System Requirements and Capabilities

OSHA is considering requiring online providers to:

Ensure bandwidth is sufficient for a large volume of users.

Ensure selected web-authoring tools have the capability to program and publish responsive courseware to accommodate a variety of electronic devices and operating system software.

K.1. Are the above system requirements and capabilities reasonable and sufficient? Please explain.

K.2. What additional online provider system requirements and capabilities are needed or should be considered? Please explain.

System Controls

OSHA is considering requiring online providers to incorporate specific system controls in their course offerings, including but not limited to, the following:

Ensuring OSHA-required instructional contact times (seat times) are met (e.g., ensuring both minimum contact time(s) for topics and overall course instructional time(s) are met; requiring a system time-out after the student is inactive for a specific period of time; and establishing a maximum of 7.5 hours of online training per 24-hour period).

Using lockout mechanisms to ensure compliance with OSHA requirements (e.g., ensuring training does not exceed 6 months and students cannot access training from geographic exclusion areas).

Ensuring users do not save, download, or conduct screen captures of training content and testing screens.

Incorporating system controls that detect and prevent program intrusions, hacks, or workarounds. OSHA believes these system controls are especially important because workarounds, such as video clips that show how to circumvent training sessions, have been posted on public social media and other websites.

Prioritizing and ensuring user data security and privacy, and having a written policy that explicitly prohibits selling or transferring student information or data.

Ensuring bookmarking functions and course mapping access are operational.

K.3. What system controls exist to ensure the above requirements? Please provide as much detail as possible. Also, please indicate whether the system controls listed in your response are industry-recognized.

K.4. Are there any weaknesses or vulnerabilities in the system controls you discussed in question K.3.?

User Authentication

OSHA is considering requiring online providers to incorporate Multi-Factor Authentication (MFA) mechanisms for access to online Outreach courses, and requiring end users to complete periodic MFA checks throughout training delivery sessions. OSHA might also require that MFA mechanisms meet industry best practices; that MFA ensures end users' digital identity verification measures adhere to stringent standards; and that MFA ensures training is completed by the student, and not a surrogate.

K.5. What level of MFA is appropriate for online Outreach classes (e.g., banking, healthcare, retail business purchases, other)? Please explain.

K.6. What organization(s) should determine industry best practices or certify MFA integrity? For example, should MFA criteria set by the National Institute of Standards and Technology (NIST) be employed to determine industry best practices? Should MFA integrity be certified by NIST? Are there any other organizations that should determine industry best practices or certify MFA integrity? Please explain.

L. Whether OSHA Should Adopt Requirements for Validating Online Curriculum and Training Content

OSHA is considering requirements to ensure online training under the Model is consistent with OSHA Outreach Training Program requirements, procedures, and policies, and that authorized training programs are revised in a timely manner when program or agency requirements or policies change. These provisions would include, but not be limited to, the following:

Maintaining Curriculum Content

OSHA is considering requiring online providers and stakeholders to be accountable for ensuring online training content is current, relevant, and compliant with current Outreach Training Program requirements and industry-specific procedures.

Timelines and Processes To Ensure Content/Curriculum Is Updated as OSHA Implements Policy Changes

OSHA currently requires authorized Outreach trainers to adhere to routine policy changes within 90 days of a requirement and procedure release date. Cases of emergent or priority policy changes may require more immediate implementation. For example, OSHA revised the mandatory Introduction to OSHA training module to reflect new reporting requirements in OSHA's recordkeeping standard, 29 CFR part 1904 (including, for example, a new requirement to report instances of workplace amputations within 24 hours of finding out about them), and subsequently directed Outreach trainers to begin delivering that revised content in an accelerated timeframe. OSHA regularly provides course updates, revisions, and program policy and procedures that include timeframes and implementation dates for instructor-led training. OSHA is considering similar requirements for online providers and stakeholders.

L.1. Is 90 days a reasonable time for an online provider and stakeholder to update/revise curriculum content to stay in compliance with routine policy changes? Please explain.

L.2. What accountability mechanisms or approach should OSHA consider to ensure training content is current, relevant, and compliant with agency timeframes? Please explain.

L.3. What timeframes are reasonable for implementation of immediate, priority, or emergent program or policy changes? Should OSHA's timeframes for immediate, priority, or emergent program or policy changes be set on a case-by-case basis (depending on the particular priority or emergency)? Please explain.

Student Assessment Strategies

OSHA is considering requiring online providers and stakeholders to be accountable for ensuring online learning courses assess student achievement of the learning objectives. If OSHA adopts such requirements, OSHA is considering requiring that practice and test questions/items be programmed as follows:

Practice questions would be required; therefore, they would need to be programmed so students cannot advance through the course without providing the correct answer. Additionally, these items would need to be programmed to provide immediate feedback to students for both correct and incorrect responses. Students would need to be able to determine how they are doing in the course. Note that because this would be part of the learning, the correct answer would need to be provided in the feedback prompt to get students back on the right path as soon as possible.

Knowledge test questions at the end of each lesson/module would be required. Students would need to achieve a score of 100% to successfully complete the online course. Remediation for each question would need to be programmed so students could review the topic and attempt the knowledge test question again, until answered correctly.

L.4. Are the strategies listed above sufficient and reasonable to ensure achievement of online learning objectives? Please explain.

For example, is requiring practice questions/items to be answered correctly sufficient to help students determine how they are doing in the course? Please explain.

As another example, is requiring a 100% test score a sufficient way to confidently measure students' achievement of the online learning objectives? Please explain.

L.5. Are there any student assessment strategies, other than those listed above, which can be applied to ensure the achievement of online learning objectives? If so, please explain.

Ensuring Appropriate Levels of Interactivity

OSHA is considering requiring online providers and stakeholders to be accountable for ensuring an appropriate level of interactivity is incorporated into online training. OSHA could structure this requirement around the four levels of interactivity OSHA uses for web-based training. The below table describes these levels of interactivity:

Levels of Interactivity
Level | Description
Level I—Passive | Student acts solely as a receiver of information. Student must read the text on the screen or view graphics such as illustrations, charts, and graphics and use the navigational buttons to progress forward through the program or move back.
| An example of this type of online product may also contain pop-ups and hyperlinks to web sites, materials, and other information interspersed between text and graphic presentations.
Level II—Limited Interaction | Student makes simple responses to instructional cues. The online product includes learning activities listed in Level I as well as multiple choices, drop-down lists, and labeling.
| An example would be an online product that includes these types of test items at the end of a unit of instruction to test student's grasp of the information.
Level III—Complex Participation | Student makes a variety of responses using varied techniques in response to instructional cues. Responses would include those listed for a Level II—Limited Interaction as well as text entry boxes and manipulation of graphic boxes to test assessment of the information presented.
| An example is data entry online training where the process is displayed and then the user is challenged to complete the process by entering information into empty process fields instead of just selecting from a multiple choice answer list.
Level IV—Real Time Participation | Student is directly involved in a life-like set of complex cues and responses. This involves engaging the student in a simulation that mirrors the work situation with stimuli-and-response coordinated to the actual environment.
| Examples of this type of online product include virtual reality, or use of artificial intelligence similar to computer games and flight simulators.

If OSHA adopts this structure for online training, OSHA would require online providers to incorporate a certain percentage of higher-level interactive training (e.g., Level IV as opposed to Level I) into online training programs.

L.6. Is the above structure feasible for ensuring there is appropriate interactivity in online courses? Please explain.

L.7. If you believe the above structure is feasible for ensuring there is appropriate interactivity in online courses, what percentages should be allotted for each level of interactivity? What percentage of the course should be held at Level I? Level II? Level III? Level IV? Please explain.

L.8. Are there levels of interactivity, other than those listed above, for ensuring online providers incorporate appropriate interactivity in online courses? Please explain.

Ensuring Student Engagement While Meeting Required Training Timeframes

L.9. Should OSHA consider requiring online providers and stakeholders to include additional interactive activities to actively engage students who quickly grasp the information to ensure they meet minimum required seat times for the 10- and 30-hour courses?

L. 10. Should there be technical requirements that measure total topic activity in a way other than screen time?

Ensuring Adult Learning Principles Direct the Design and Development of Content

An adult learning principle is that adults learn by doing. Therefore, OSHA is considering requiring online content to be developed using the one-third to two-thirds (⅓:⅔) instructional strategy approach. This approach allows for (⅓) of the course to be presentation of the learning and (⅔) of the course devoted to practice of the learning, with feedback to the learner indicating their progress. Online content developers/providers would achieve this requirement using the Levels of Interactivity described above as a guide: Level I for the presentation portion; and Levels II-IV for the practice portion.

L.11. Should OSHA require online content to be designed using specific adult learning principles, such as the principle that adults learn by doing? Please explain.

L.12. Is requiring the ⅓:⅔ instructional strategy to support an active training method feasible? Please explain.

M. Ensuring Program Management and Strengthening Program Oversight

OSHA is considering a level of agency oversight of online Outreach course delivery comparable to existing agency oversight of instructor-led, classroom outreach course delivery. Specifically, OSHA is considering implementing program rules that are specific to online Outreach training in several areas, including, but not limited to setting course tuition and card processing fees, prohibiting resellers, prohibiting pass through agreements, prohibiting multi-branded offerings, and establishing program administrative requirements.

Setting of Course Tuition and Card Processing Fees

OSHA is not considering setting prices for online Outreach courses. Thus, for example, an online provider would be able to set the overall price for its online 10-hour general industry Outreach course offered by its consortium. OSHA believes however, the fee charged by OTI Education Centers for Outreach card processing must be the same for all OSHA Outreach Training Program courses, whether those courses are led by an instructor in a classroom or taken online. The fee for Outreach card processing is currently $8.00 per card (subject to change).

OSHA is considering enforcing assessment of identical card processing fees—whether the cards are received through completion of Instructor-Led Training (ILT) or online delivery—regardless of online vendor, ILT class provider, or which OTI Education Center processes the card request.

M.1. Should card-processing fees be listed or identified during online registration?

M.2. How can consortium collaborators demonstrate to OSHA that the card-processing fee per student complies with program requirements?

Potential Prohibition on Resellers, Pass Through Agreements, Multi-Branded Offerings

OSHA is concerned that certain practices could result in confusion among customers as to the origin and content of online courses. OSHA is considering adopting requirements that would reduce this confusion, including, for example, prohibiting the use of reselling, pass through agreements, and multi-branded offerings. Reselling and pass through agreements allow a student to purchase and access an online course through a secondary party or secondary-tiered provider (i.e., the reseller, which in this context, might include any entity (e.g., an affiliate or business partner) other than the online provider or stakeholder itself, or any websites operated by such entities). Multi-branded offerings include OSHA Outreach-like training that is similar, but not equivalent, to OSHA Outreach Training Program training. Multi-branded offerings do not result in the student receiving a legitimate 10- or 30-hour Outreach course completion card.

M.3. Do you agree the practices discussed above generate confusion for members of the public who wish to complete online OSHA Outreach Training Program classes? Should OSHA prohibit these practices? Please explain.

M.4. Should OSHA consider incorporating requirements and other controls to limit public misinformation or confusion? Please explain.

M.5. What actions should OSHA take against consortium partner practices that mislead the public? Please explain.

Program Administrative Requirements

OSHA is considering requiring online providers to establish and implement policies and procedures for administration of the Online Outreach Training Program. For example, OSHA might require online providers to establish and implement policies and procedures for: Hosting online courses in a capable Learning Management System; retaining student training records; compiling, collating, and submitting training reports and other information or data; requesting Outreach student course completion cards; administering the online training registration process; ensuring compliance with geographic jurisdiction requirements; and monitoring user experience.⁴

⁴ OSHA Outreach Training Program classes may generally only be conducted in training locations within the geographic jurisdiction of the Occupational Safety and Health (OSH) Act. The geographic jurisdiction of the OSH Act is limited to the 50 U.S. States, the District of Columbia, the Commonwealth of Puerto Rico, the Virgin Islands, American Samoa, Guam, the Commonwealth of the Northern Mariana Islands, Wake Island, Outer Continental Shelf Lands defined in the Outer Continental Shelf Lands Act, and Johnston Island.

OSHA is also considering requiring customer service to be the responsibility of the online provider through its authorized Outreach trainer(s). To ensure satisfactory customer service, OSHA is considering requiring responses to inquiries about the following types of issues within 24 hours: Technical support; course curriculum; and Outreach student course completion cards.

M.6. Do you agree OSHA should institute the program administrative requirements listed above? Please explain.

M.7. What are industry best practices for a capable Learning Management System? Please explain.

M.8. What policies and procedures for a capable Learning Management System should OSHA require? Please explain.

M.9. What policies and procedures for student record retention should OSHA require? Please explain.

M.10. What types of training reports (e.g., reports on the number of students trained, number of classes offered, average course completion rates, etc.) will best serve the interests of the consortium? Please explain.

M.11. What policies and procedures for requesting Outreach student course completion cards should OSHA require? Please explain.

M.12. What policies and procedures for online training registration process should OSHA require? Please explain.

M.13. What policies for ensuring training complies with geographic jurisdiction requirements should OSHA require? Please explain.

M.14. What policies and procedures for ensuring timely and high quality customer service should OSHA require? Please explain.

N. Additional Information

OSHA has listed within this RFI the majority of issues the agency has encountered with the current model of delivering online OSHA Outreach Training Program courses, described an alternative to the current model OSHA is considering, and also described additional requirements OSHA is considering placing on the provision of online Outreach Training Program training. The information OSHA discussed in this Request for Information is not intended to be all-inclusive and may not address all public or stakeholder concerns.

N.1. Is there any additional information, or are there any public or stakeholder concerns, not contained in this RFI, that OSHA should consider? If so, please explain.

IV. Authority and Signature

Loren Sweatt, Principal Deputy Assistant Secretary of Labor for Occupational Safety and Health, authorized the preparation of this notice pursuant to 29 U.S.C. 653 and 670(c)(1), and Secretary's Order 1-2012 (77 FR 3912, Jan. 25, 2012).

Signed in Washington, DC.
Loren Sweatt,
Principal Deputy Assistant Secretary of Labor for Occupational Safety and Health.

[FR Doc. 2019-21943 Filed 10-7-19; 8:45 am]

BILLING CODE 4510-26-P